DEPARTMENT OF LABOR

Occupational Safety and Health Administration

29 CFR Part 1910

Standards Improvement Project—Phase III

CFR Correction

In Title 29 of the Code of Federal Regulations, Part 1900 to § 1910.999, revised as of July 1, 2014, in § 1910.36, on page 151, revise the Note to paragraph (b), and on page 152, revise the Note to paragraph (f), to read as follows:

§ 1910.36 Design and construction requirements for exit routes.

* * * * *

(b) * * *

Note to paragraph (b) of this section: For assistance in determining the number of exit routes necessary for your workplace, consult NFPA 101-2009, Life Safety Code, or IFC-2009, International Fire Code (incorporated by reference, see § 1910.6).

* * * * *

(f) * * *

Note to paragraph (f) of this section: Information regarding the “Occupant load” is located in NFPA 101-2009, Life Safety Code, and in IFC-2009, International Fire Code (incorporated by reference, see § 1910.6).

* * * * *

[FR Doc. 2014-30196 Filed 12-22-14; 8:45 am]

BILLING CODE 4510-26-P